DEPARTMENT OF COMMERCE

National Oceanic and Atmospheric Administration

50 CFR Parts 223 and 224

Threatened and Endangered Marine and Anadromous Species

CFR Correction

In Title 50 of the Code of Federal Regulations, Parts 200 to 227, revised as of October 1, 2015, on page 305, in § 223.102(e), revise the table entries for “Sea turtle, loggerhead (Northwest Atlantic Ocean DPS)”, “Sea turtle, loggerhead (South Atlantic Ocean DPS)”, “Sea turtle, loggerhead (Southeast Indo-Pacific Ocean DPS)”, and “Sea turtle, loggerhead (Southwest Indian Ocean DPS)” to read as follows:

§ 223.102 Enumeration of threatened marine and anadromous species.

* * * * *

(e) * * *

Species ¹: Common name | Species ¹: Scientific name | Species ¹: Description of listed entity | Citation(s) for listing determination(s) | Critical habitat | ESA rules
* * * * * * *
Sea Turtles ²
* * * * * * *
Sea turtle, loggerhead (Northwest Atlantic Ocean DPS) | Caretta caretta | Loggerhead sea turtles originating from the Northwest Atlantic Ocean north of the equator, south of 60° N. Lat., and west of 40° W. Long | 76 FR 58868, Sep 22, 2011 | 17.95(c), 226.223 | 223.205, 223.206, 223.207.
Sea turtle, loggerhead (South Atlantic Ocean DPS) | Caretta caretta | Loggerhead sea turtles originating from the South Atlantic Ocean south of the equator, north of 60° S. Lat., west of 20° E. Long., and east of 67° W. Long | 76 FR 58868, Sep 22, 2011 | NA | 223.205, 223.206, 223.207.
Sea turtle, loggerhead (Southeast Indo-Pacific Ocean DPS) | Caretta caretta | Loggerhead sea turtles originating from the Southeast Indian Ocean south of the equator, north of 60° S. Lat., and east of 80° E. Long.; South Pacific Ocean south of the equator, north of 60° S. Lat., and west of 141° E. Long | 76 FR 58868, Sep 22, 2011 | NA | 223.205, 223.206, 223.207.
Sea turtle, loggerhead (Southwest Indian Ocean DPS) | Caretta caretta | Loggerhead sea turtles originating from the Southwest Indian Ocean south of the equator, north of 60° S. Lat., east of 20° E. Long., and west of 80° E. Long | 76 FR 58868, Sep 22, 2011 | NA | 223.205, 223.206, 223.207.
* * * * * * *
¹ Species includes taxonomic species, subspecies, distinct population segments (DPSs) (for a policy statement, see 61 FR 4722, February 7, 1996), and evolutionarily significant units (ESUs) (for a policy statement, see 56 FR 58612, November 20, 1991).
² Jurisdiction for sea turtles by the Department of Commerce, National Oceanic and Atmospheric Administration, National Marine Fisheries Service, is limited to turtles while in the water.

* * * * *

On page 374, in § 224.101(h), revise the table entries for “Sea turtle, loggerhead (Mediterranean Sea DPS)”, “Sea turtle loggerhead (North Indian Ocean DPS)”, “Sea turtle, loggerhead (North Pacific Ocean DPS)”, “Sea turtle, loggerhead (Northeast Atlantic Ocean DPS)”, and “Sea turtle, loggerhead (South Pacific Ocean DPS)” to read as follows:

§ 224.101 Enumeration of endangered marine and anadromous species.

* * * * *

(h) * * *

Species ¹: Common name | Species ¹: Scientific name | Species ¹: Description of listed entity | Citation(s) for listing determination(s) | Critical habitat | ESA Rules
* * * * * * *
Sea Turtles ²
Sea turtle, loggerhead (Mediterranean Sea DPS) | Caretta caretta | Loggerhead sea turtles originating from the Mediterranean Sea east of 5°36′ W. Long | 76 FR 58868, Sep 22, 2011 | NA | 224.104
Sea turtle, loggerhead (North Indian Ocean DPS) | Caretta caretta | Loggerhead sea turtles originating from the North Indian Ocean north of the equator and south of 30° N. Lat | 76 FR 58868, Sep 22, 2011 | NA | 224.104
Sea turtle, loggerhead (North Pacific Ocean DPS) | Caretta caretta | Loggerhead sea turtles originating from the North Pacific north of the equator and south of 60° N. Lat | 76 FR 58868, Sep 22, 2011 | NA | 224.104
Sea turtle, loggerhead (Northeast Atlantic Ocean DPS) | Caretta caretta | Loggerhead sea turtles originating from the Northeast Atlantic Ocean north of the equator, south of 60° N. Lat., and east of 40° W. Long., except in the vicinity of the Strait of Gibraltar where the eastern boundary is 5°36′ W. Long | 76 FR 58868, Sep 22, 2011 | NA | 224.104
Sea turtle, loggerhead (South Pacific Ocean DPS) | Caretta caretta | Loggerhead sea turtles originating from the South Pacific south of the equator, north of 60° S. Lat., west of 67° W. Long., and east of 141° E. Long | 76 FR 58868, Sep 22, 2011 | NA | 224.104
* * * * * * *
¹ Species includes taxonomic species, subspecies, distinct population segments (DPSs) (for a policy statement, see 61 FR 4722, February 7, 1996), and evolutionarily significant units (ESUs) (for a policy statement, see 56 FR 58612, November 20, 1991).
² Jurisdiction for sea turtles by the Department of Commerce, National Oceanic and Atmospheric Administration, National Marine Fisheries Service, is limited to turtles while in the water.

* * * * *

[FR Doc. 2016-07044 Filed 3-25-16; 8:45 am]

BILLING CODE 1505-01-D